DEPARTMENT OF COMMERCE

National Oceanic and Atmospheric Administration

Science Advisory Board

AGENCY: National Oceanic and Atmospheric Administration (NOAA), Department of Commerce (DOC).

ACTION: Notice of public meeting.

SUMMARY: This notice sets forth the schedule and proposed agenda for the meeting of the Science Advisory Board (SAB). The members will discuss issues outlined in the section on Matters to be considered.

DATES: The meeting is scheduled for April 14, 2020 from 1:00 p.m. to 4:00 p.m. Eastern Standard Time (EST) and April 15, 2020 from 1:00 p.m. to 4:15 p.m. EST. This time and the agenda topics described below are subject to change.

For the latest agenda please refer to the SAB website: http://sab.noaa.gov/SABMeetings.aspx.

ADDRESSES: This will be a webinar meeting. The link for the webinar registration for the April 14-15, 2020 meeting may be found here: https://attendee.gotowebinar.com/register/8446468520392398605.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 14-15, 2020 meeting will be open to public participation with a 15-minute public comment period on April 14 at 3:45 p.m. EST. The SAB expects that public statements presented at its meetings will not be repetitive of previously submitted verbal or written statements. In general, each individual or group making a verbal presentation will be limited to a total time of three minutes. Written comments for the April 14-15, 2020 meeting should be received in the SAB Executive Director's Office by April 1, 2020 to provide sufficient time for SAB review. Written comments received by the SAB Executive Director after this dates will be distributed to the SAB, but may not be reviewed prior to the meeting date.

Matters to be Considered: The meeting on April 14-15, 2020 will include the (1) NOAA Priorities; (2) NOAA Artificial Intelligence Strategic Plan and AI Center; (3) Update on NOAA `Omics and eDNA Strategic Plan; (4) NOAA Tsunami Program; (5) Discussion of the SAB Tsunami Science and Technology Advisory Panel; (6) Update on the Earth Prediction Innovation Center (EPIC); and (7) Discussion of the SAB Work Plan. Meeting materials, including work products, will be made available on the SAB website: http://sab.noaa.gov/SABMeetings.aspx.

Dated: March 20, 2020.
David Holst,
Director, Chief Financial Officer/CAO, Office of Oceanic and Atmospheric Research, National Oceanic and Atmospheric Administration.

[FR Doc. 2020-06551 Filed 3-27-20; 8:45 am]

BILLING CODE 3510-K0-P